DEPARTMENT OF TRANSPORTATION

Federal Aviation Administration

14 CFR Part 39

[Docket No. FAA-2006-25537; Directorate Identifier 2006-NM-160-AD; Amendment 39-14708; AD 2006-16-08]

RIN 2120-AA64

Airworthiness Directives; Aerospatiale Model ATR42 and ATR72 Airplanes

AGENCY: Federal Aviation Administration (FAA), Department of Transportation (DOT).

ACTION: Final rule; request for comments.

SUMMARY: The FAA is adopting a new airworthiness directive (AD) for certain Aerospatiale Model ATR42 and ATR72 airplanes. This AD requires an inspection of the locking bolt of the upper attachment pin of the shock absorber on both main landing gears (MLGs) for the correct installation of the locking bolt and for any missing locking bolt, washer, nut, cotter pin, or compound, and applicable corrective action if necessary. This AD results from a report of migration and subsequent rupture of the attachment pin of the shock absorber of a MLG. We are issuing this AD to prevent failure of a MLG, which could result in significant structural damage to the airplane and possible injury to the occupants.

DATES: This AD becomes effective August 23, 2006.

The Director of the Federal Register approved the incorporation by reference of a certain publication listed in the AD as of August 23, 2006.

We must receive comments on this AD by October 10, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Messier Services, Customer Support Center (CSC) Americas, 45360 Severn Way, Sterling, Virginia 20166-8910, for service information identified in this AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

The European Aviation Safety Agency (EASA), which is the airworthiness authority for the European Union, notified us that an unsafe condition may exist on certain Aerospatiale Model ATR42 and ATR72 airplanes. The EASA advises that it has received a report of migration and subsequent rupture of the attachment pin of the shock absorber of a main landing gear (MLG). Investigation revealed that the migration was due to the absence of the locking bolt, which was not installed during manufacturing. This condition, if not corrected, could result in failure of a MLG and consequent structural damage to the airplane and possible injury to the occupants.

Relevant Service Information

Messier-Dowty has issued Special Inspection Service Bulletin 631-32-190, dated July 12, 2006. The service bulletin describes procedures for a visual inspection of the locking bolt of the upper attachment pin of the shock absorber on both MLGs for the correct installation of the locking bolt and for any missing locking bolt, washer, nut, cotter pin, or compound, and applicable corrective action if necessary. The corrective action includes installing any missing locking bolt, cotter pin, nut, washer, or compound, and ensuring proper installation of the locking bolt. Accomplishing the actions specified in the service information is intended to adequately address the unsafe condition. The EASA mandated the service bulletin and issued emergency airworthiness directive 2006-0216-E, dated July 14, 2006, to ensure the continued airworthiness of these airplanes in the European Union.

FAA's Determination and Requirements of This AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are issuing this AD to prevent failure of a MLG, which could result in significant structural damage to the airplane and possible injury to the occupants. This AD requires accomplishing the actions specified in the service information described previously, except as discussed under “Difference Between the AD and Service Bulletin.”

Difference Between the AD and Service Bulletin

The service bulletin specifies to contact the manufacturer for instructions on how to repair certain conditions, but this AD requires repairing those conditions using a method that we or the EASA (or its delegated agent) approve. In light of the type of repair that is required to address the unsafe condition, and consistent with existing bilateral airworthiness agreements, we have determined that, for this AD, a repair we or the EASA approve is acceptable for compliance with this AD.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-25537; Directorate Identifier 2006-NM-160-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-16-08 Aerospatiale: Amendment 39-14708. Docket No. FAA-2006-25537; Directorate Identifier 2006-NM-160-AD.

Effective Date

(a) This AD becomes effective August 23, 2006.

Affected ADs

(b) None.

Applicability

(c) This AD applies to airplanes identified in Table 1 of this AD, certificated in any category.

Table 1.—Applicability
Aerospatiale model | Manufacturer serial numbers (MSN)
(1) ATR42-200, -300, -320, and -500 airplanes | Up to MSN 645 inclusive.
(2) ATR72-101, -201, -102, -202, -211, -212, and -212A airplanes | Up to MSN 730 inclusive, excluding MSN 723.

Unsafe Condition

(d) This AD results from a report of migration and subsequent rupture of the attachment pin of the shock absorber of a main landing gear (MLG). We are issuing this AD to prevent failure of a MLG, which could result in significant structural damage to the airplane and possible injury to the occupants.

Compliance

(e) You are responsible for having the actions required by this AD performed within the compliance times specified, unless the actions have already been done.

General Visual Inspection and Corrective Action

(f) Within 15 days after the effective date of this AD, do a general visual inspection of the locking bolt of the upper attachment pin of the shock absorber on both MLGs for the correct installation of the locking bolt and for any missing locking bolt, washer, nut, cotter pin, or compound; and before further flight, do all applicable corrective actions. Do the actions in accordance with the Accomplishment Instructions of Messier-Dowty Special Inspection Service Bulletin 631-32-190, dated July 12, 2006, except as provided by paragraph (g) of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(g) Where Messier-Dowty Special Inspection Service Bulletin 631-32-190, dated July 12, 2006, specifies contacting Messier-Dowty for appropriate action: Before further flight, repair the locking bolt using a method approved by either the Manager, International Branch, ANM-116, Transport Airplane Directorate, FAA; or the European Aviation Safety Agency (EASA) (or its delegated agent).

Alternative Methods of Compliance (AMOCs)

(h)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) EASA emergency airworthiness directive 2006-0216-E, dated July 14, 2006, also addresses the subject of this AD.

Material Incorporated by Reference

(j) You must use Messier-Dowty Special Inspection Service Bulletin 631-32-190, dated July 12, 2006, to perform the actions that are required by this AD, unless the AD specifies otherwise. The Director of the Federal Register approved the incorporation by reference of this document in accordance with 5 U.S.C. 552(a) and 1 CFR part 51. Contact Messier Services, Customer Support Center (CSC) Americas, 45360 Severn Way, Sterling, Virginia 20166-8910, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 28, 2006.
Ali Bahrami,
Manager, Transport Airplane Directorate, Aircraft Certification Service.

[FR Doc. E6-12726 Filed 8-7-06; 8:45 am]

BILLING CODE 4910-13-P